NUCLEAR REGULATORY COMMISSION

[Docket Nos. 50-219; 72-27; 72-17; 50-213, 72-39; and 50-29, 72-31; NRC-2020-0110]

Issuance of Multiple Exemptions in Response to COVID-19 Public Health Emergency

AGENCY: Nuclear Regulatory Commission.

ACTION: Exemptions; issuance.

SUMMARY: The U.S. Nuclear Regulatory Commission (NRC) issued multiple exemptions in response to requests from Holtec Decommissioning International, LLC.; Pacific Gas and Electric Company; Portland General Electric Company; Connecticut Yankee Atomic Power Company; and Yankee Atomic Electric Company. The exemptions allow the licensees to extend certain training and requalification frequency requirements of NRC's general criteria for security personnel in response to the COVID-19 public health emergency (PHE). The NRC is issuing a single notice to announce the issuance of these exemptions.

DATES: The exemptions were issued between May 20, 2020 and June 23, 2020.

ADDRESSES: Please refer to Docket ID NRC-2020-0110 when contacting the NRC about the availability of information regarding this document. You may obtain publicly-available information related to this document using any of the following methods:

• Federal Rulemaking website: Go to https://www.regulations.gov and search for Docket ID NRC-2020-0110. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

For the convenience of the reader, instructions about obtaining materials referenced in this document are provided in the “Availability of Documents” section.

FOR FURTHER INFORMATION CONTACT: John McKirgan, Office of Nuclear Material Safety and Safeguards, telephone: 301-415-5722, email: John.McKirgan@nrc.gov or Bruce Watson, Office of Nuclear Material Safety and Safeguards, telephone: 301-415-6221, email: Bruce.Watson@nrc.gov. Both are staff of U.S. Nuclear Regulatory Commission, Washington, DC 20555-0001.

SUPPLEMENTARY INFORMATION:

I. Introduction

The NRC issued multiple exemptions in response to requests dated between May 7, 2020, and May 20, 2020, from Holtec Decommissioning International, LLC.; Pacific Gas and Electric Company; Portland General Electric Company; Connecticut Yankee Atomic Power Company; and Yankee Atomic Electric Company. The exemptions allow the licensees to extend training and requalification frequency requirements in specific regulations (cited below) of title 10 of the Code of Federal Regulations (10 CFR) part 73, “Physical Protection of Plants And Materials.”

The exemptions from certain sections of 10 CFR part 73 ensure that the extension of training and requalification frequency facilitates the implementation of security measures regarding physical and medical requalification in a manner that does not conflict with practices recommended to limit the spread of COVID-19.

The NRC is periodically providing this compiled listing of related exemptions using a single Federal Register notice for COVID-19 related exemptions, instead of issuing individual Federal Register notices. Additionally, the NRC publishes a list of approved licensing actions related to the COVID-19 PHE on its public website at https://www.nrc.gov/about-nrc/covid-19/materials/storage.html and https://www.nrc.gov/about-nrc/covid-19/materials/decommissioning.html.

II. Availability of Documents

The table below provides the licensee name, the plant name, docket number, and ADAMS Accession Numbers for information on each exemption issued, including the exemption request submitted by the respective licensee. For additional directions on accessing information in ADAMS, see the ADDRESSES section of this document.

Holtec Decommissioning International, LLC. Oyster Creek Nuclear Generating Station Docket No. 50-219
Document Title | ADAMS Accession No.
Oyster Creek Nuclear Generating Station—Exemption Request from Certain Requirements of 10 CFR Part 73, Appendix B, “General Criteria for Security Personnel,” Section VI | ML20140A130.

Pacific Gas and Electric Company Humboldt Bay Independent Spent Fuel Storage Installation Docket No. 72-27
Document title | ADAMS Accession No.
Request for Temporary Exemption from 10 CFR Part 73, Appendix B for the Humboldt Bay Independent Spent Fuel Storage Installation | ML20134J007.
Issuance of Temporary Exemption from 10 CFR Part 73, Appendix B I.E, II.E, AND IV. for Humboldt Bay Independent Spent Fuel Storage Installation | ML20162A061.

Portland General Electric Company Trojan Independent Spent Fuel Storage Installation Docket No. 72-17
Document title | ADAMS Accession No.
Request for Temporary Exemption from 10 CFR Part 73, Appendix B, General Criteria for Security Personnel | ML20147A606.
Issuance of Temporary Exemption from 10 CFR Part 73, Appendix B, Section I.E. for Trojan Independent Spent Fuel Storage Installation | ML20149K418.

Connecticut Yankee Atomic Power Company Haddam Neck Plant Independent Spent Fuel Storage Installation Docket Nos. 50-213 and 72-39
Document title | ADAMS Accession No.
Request for a Temporary Exemption from 10 CFR 73, Appendix B, Section LE and 10 CFR 73.55(r) Annual Physical Requalification Requirement | ML20143A061.
Issuance of Temporary Exemption from 10 CFR Part 73, Appendix B, Section I.E for Haddam Neck Independent Spent Fuel Storage Installation | ML20150A335.

Yankee Atomic Electric Company Yankee Rowe Independent Spent Fuel Storage Installation Docket Nos. 50-029 & 72-31
Document title | ADAMS Accession No.
Request for a Temporary Exemption from 10 CFR 73, Appendix B, Section I.E and Revision 19 of the Yankee Rowe Independent Spent Fuel Storage Installation Physical Security Plan, Annual Physical Qualification Requirement | ML20160A040.
Response to Request for Additional Information: Yankee Atomic Electric Company Temporary Exemption for Annual Physicals Requirement | ML20161A191.
Issuance of Temporary Exemptions from 10 CFR Part 73, Appendix B, Section I.E. for Yankee Rowe Independent Spent Fuel Storage Installation | ML20162A128.

The NRC may post additional materials to the Federal rulemaking website at https://www.regulations.gov, under Docket ID NRC-2020-0110. The Federal rulemaking website allows you to receive alerts when changes or additions occur in a docket folder. To subscribe: (1) Navigate to the docket folder (NRC-2020-0110); (2) click the “Sign up for Email Alerts” link; and (3) enter your email address and select how frequently you would like to receive emails (daily, weekly, or monthly).

Dated: July 8, 2020.
For the Nuclear Regulatory Commission.
John B. McKirgan,
Chief, Storage and Transportation Licensing Branch, Division of Fuel Management, Office of Nuclear Material Safety and Safeguards.

[FR Doc. 2020-15046 Filed 7-10-20; 8:45 am]

BILLING CODE 7590-01-P